DEPARTMENT OF THE TREASURY

Internal Revenue Service

Open Meeting of the Taxpayer Advocacy Panel's Notices and Correspondence Project Committee

AGENCY: Internal Revenue Service (IRS), Treasury.

ACTION: Notice of meeting.

SUMMARY: Notice is hereby given for an open meeting of the Taxpayer Advocacy Panel Tax Notices and Correspondence Project Committee scheduled for Thursday, March 26, 2020 and Friday, March 27, 2020. This meeting was originally published in the Federal Register on March 9, 2020 (Volume 85, Number 46, Page 13708), as a face to face meeting. Out of an abundance of caution, certain government travel has been temporarily suspended. Due to these circumstances, we will not be able to meet the 15-calendar notice threshold. This meeting will now proceed via teleconference.

DATES: The meeting will be held Thursday, March 26, 2020 and Friday, March 27, 2020.

FOR FURTHER INFORMATION CONTACT: Robert Rosalia at 1-888-912-1227 or (718) 834-2203.

SUPPLEMENTARY INFORMATION: Notice is hereby given pursuant to Section 10(a)(2) of the Federal Advisory Committee Act, 5 U.S.C. App. (1988) that an open meeting of the Taxpayer Advocacy Panel's Notices and Correspondence Project Committee will be held Thursday, March 26, 2020, from 1:00 p.m. to 3:00 p.m. Eastern Time and Friday, March 27, 2020, from 1:00 p.m. until 3:00 p.m. Eastern Time. The public is invited to make oral comments or submit written statements for consideration. Due to limited time and structure of meeting, notification of intent to participate must be made with Robert Rosalia. For more information please contact Robert Rosalia at 1-888-912-1227 or (718) 834-2203, or write TAP Office, 2 Metrotech Center, 100 Myrtle Avenue, Brooklyn, NY 11201 or contact us at the website: http://www.improveirs.org. The agenda will include various IRS issues.

Dated: March 12, 2020.
Kevin Brown,
Acting Director, Taxpayer Advocacy Panel.

[FR Doc. 2020-05656 Filed 3-17-20; 8:45 am]

BILLING CODE 4830-01-P